DEPARTMENT OF ENERGY

Federal Energy Regulatory Commission

[Project No. 2600-088]

Bangor-Pacific Hydro Associates; Notice of Application Tendered for Filing With the Commission and Establishing Procedural Schedule for Licensing and Deadline for Submission of Final Amendments

Take notice that the following hydroelectric application has been filed with the Commission and is available for public inspection.

a. Type of Application: New Major License.

b. Project No.: 2600-088.

c. Date Filed: May 27, 2022.

d. Applicant: Bangor-Pacific Hydro Associates (Bangor Hydro).

e. Name of Project: West Enfield Hydroelectric Project (project).

f. Location: On the Penobscot River in Penobscot County, Maine. The project does not occupy any federal land.

g. Filed Pursuant to: Federal Power Act, 16 U.S.C. 791(a)-825(r).

h. Applicant Contact: Randy Dorman, Relicensing Manager, Brookfield Renewable, 150 Maine Street, Lewiston, ME 04240; phone at (207) 755-5605, or email at Randy.Dorman@brookfieldrenewable.com.

i. FERC Contact: Bill Connelly at (202) 502-8587, or william.connelly@ferc.gov.

j. This application is not ready for environmental analysis at this time.

k. Project Description: The existing West Enfield Hydroelectric Project consists of: (1) a 664-foot-long, 39-foot-high concrete dam that includes: (a) a 363-foot-long overflow spillway with 7-foot-high flashboards and a crest elevation of 156.1 feet National Geodetic Vertical Datum 1929 (NGVD 29) at the top of the flashboards; (b) a 107-foot-long gated spillway with three 26-foot-wide, 25-foot-high radial spillway gates at an elevation of 149.1 feet NGVD 29; and (c) a 194-foot-long, 39-foot-high non-overflow section; (2) an 1,148-acre impoundment at the spillway crest elevation of 156.1 feet NGVD 29; (3) a 106-foot-long, 46.75-foot-high intake structure at the non-overflow section of the dam with four 47-foot-high, 21.25-foot-wide intake gates that are equipped with four trashracks having 1.25-inch clear bar spacing; (4) a concrete dam (Runaround Dam) located on the west bank of Merrill Brook, a tributary to the impoundment, with three 6.33-foot-wide, 7.67-foot-high metal gates; (5) a 130-foot-long, 110-foot-wide concrete powerhouse that is integral with the dam and contains two 6.5-megawatt (MW) horizontal Kaplan turbine-generator units, for a total installed capacity of 13.0 MW; (6) a 1,100-foot-long tailrace; (7) a downstream fish passage facility located on top of the intake structure; (8) a concrete vertical slot fish ladder located on the east end of the dam; (9) an upstream eel passage facility located on the east end of the gated spillway; (10) a 13.2/44-kilovolt (kV) step-up transformer, and a 1,400-foot long, 44-kV overhead transmission line connecting the project generators to the regional grid; and (11) appurtenant facilities.

The current license requires Bangor-Pacific Hydro to operate the project in a run-of-river mode, such that project outflow approximates inflow. Bangor Hydro maintains the impoundment at the flashboard crest elevation of 156.1 feet NGVD 29. The current license also requires a minimum bypassed reach flow of 500 cubic feet per second or the inflow to the impoundment, whichever is less. The current license requires the following measures: (1) an Atlantic salmon smolt stockout pond; (2) funding anadromous fisheries management activities in the Penobscot River Basin; and (4) a Species Protection Plan for Atlantic salmon. Upstream and downstream passage for diadromous fish are provided from April 1 to December 31. Upstream passage for American eel is provided from April 1 to November 30.

The minimum and maximum hydraulic capacities of the powerhouse are 1,200 and 6,730 cfs, respectively. The average annual generation of the project was approximately 86,748 megawatt-hours from 2017 through 2021.

Bangor Hydro proposes to: (1) continue to operate the project in run-of-river mode; (2) develop an operation and compliance monitoring plan; (3) develop a debris management plan; (4) develop a historic properties management plan; and (5) construct a formal canoe take-out, portage, and put-in around West Enfield Dam.

l. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-2600). For assistance, contact FERC at FERCOnlineSupport@ferc.gov or call toll-free, (866) 208-3676 or (202) 502-8659 (TTY).

m. You may also register online at https://ferconline.ferc.gov/FERCOnline.aspx to be notified via email of new filings and issuances related to this or other pending projects. For assistance, contact FERC Online Support.

n. Procedural Schedule: The application will be processed according to the following preliminary schedule. Revisions to the schedule will be made as appropriate.

Milestone | Target date
Issue Deficiency Letter | June 2022.
Request Additional Information (if necessary) | July 2022.
Notice of Acceptance/Notice of Ready for Environmental Analysis | February 2023.
Filing of recommendations, preliminary terms and conditions, and fishway prescriptions | April 2023.

o. Final amendments to the application must be filed with the Commission no later than 30 days from the issuance date of the notice of ready for environmental analysis.

Dated: June 10, 2022.
Debbie-Anne A. Reese,
Deputy Secretary.

[FR Doc. 2022-12995 Filed 6-15-22; 8:45 am]

BILLING CODE 6717-01-P